DEPARTMENT OF THE INTERIOR

Bureau of Land Management

[AK-040-1410-00-HX]

Opening Order

AGENCY: Bureau of Land Management, Interior.

SUMMARY: The State of Alaska applications for selection made under Section 6(b) of the Alaska Statehood Act of July 7, 1958, 43 U.S.C. prec. 21 (1994), and under section 906(e) of the Alaska National Interest Lands Conservation Act, 43 U.S.C. 1635(e) (1994), become effective without further action by the State upon publication of this public land order in the Federal Register. Land not conveyed to the State is opened and will be subject to the terms and condition of Public Land Order No. 5180, as amended, and any other withdrawals of record.

Seward Meridian

Lot 1, U.S. Survey No. 3570, Alaska, containing 3.15 acres.

Seward Meridian

T. 6 N., R. 11 W.,

Section 31, Lots 40, 41, and 42, containing 3.75 acres.

FOR FURTHER INFORMATION CONTACT: Karen Collie, Realty Specialist, Bureau of Land Management, Anchorage Field Office, 6881 Abbott Loop Road, Anchorage, Alaska 99507, 907-267-1210.

Nick Douglas,
Field Manager.

[FR Doc. 00-8867 Filed 4-10-00; 8:45 am]

BILLING CODE 4310-JA-P